DEPARTMENT OF COMMERCE

National Oceanic and Atmospheric Administration

RIN 0648-XG359

Marine Mammals; File No. 21482

AGENCY: National Marine Fisheries Service (NMFS), National Oceanic and Atmospheric Administration (NOAA), Commerce.

ACTION: Notice; receipt of application.

SUMMARY: Notice is hereby given that Dan T. Engelhaupt, Ph.D., HDR, Inc., 4173 Ewell Road, Virginia Beach, VA 23455, has applied in due form for a permit to conduct scientific research on 83 species of marine mammals.

DATES: Written, telefaxed, or email comments must be received on or before June 17, 2019.

ADDRESSES: The application and related documents are available for review by selecting “Records Open for Public Comment” from the “Features” box on the Applications and Permits for Protected Species (APPS) home page, https://apps.nmfs.noaa.gov, and then selecting File No. 21482 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Shasta McClenahan or Carrie Hubard, (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), the regulations governing the taking, importing, and exporting of endangered and threatened species (50 CFR parts 222-226), and the Fur Seal Act of 1966, as amended (16 U.S.C. 1151 et seq.).

The applicant requests a five-year research permit to conduct research that would further the understanding of marine mammal responses to anthropogenic activities, while contributing to cetacean and pinniped conservation by collecting critical baseline and exposure data required to inform long-term management. Research may occur in U.S. and international waters world-wide. Up to 83 species of marine mammals may be targeted including the following endangered or threatened species and stocks: Blue (Balaenoptera musculus), Bowhead (Balaena mysticetus), beluga (Cook Inlet distinct population segment [DPS]; Delphinapterus leucas), fin (B. physalus), gray (Western North Pacific stock; Eschrichtius robustus), Gulf of Mexico Bryde's (B. edeni), humpback (Megaptera novaeangliae), false killer (Main Hawaiian Islands Insular DPS; Pseudorca crassidens), North Atlantic right (Eubalaena glacialis), North Pacific right (E. japonica), sei (B. borealis), Southern Resident killer (Orcinus orca), Southern right (E. australis), and sperm (Physeter macrocephalus) whales; and pinnipeds including Steller sea lions (Eumetopias jubatus), and bearded (Erignathus barbatus), Guadalupe fur (Arctocephalus townsendi), Hawaiian monk (Neomonachus schauinslandi), ringed (Phoca hispida), and spotted (P. largha) seals. Marine mammals may be taken during underwater, vessel, and manned and unmanned aerial surveys for observation, photography, photo-ID, photogrammetry, video recording, and passive acoustic recording. Targeted cetaceans may also be taken for active acoustic playbacks, biological sampling (exhaled air, fecal, sloughed skin, or skin and blubber biopsy), and tagging (suction-cup, dart/barb, or fully-implantable). See the application for numbers of animals requested by species and procedure.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: May 14, 2019.
Julia Marie Harrison,
Chief, Permits and Conservation Division, Office of Protected Resources, National Marine Fisheries Service.

[FR Doc. 2019-10330 Filed 5-16-19; 8:45 am]

BILLING CODE 3510-22-P